DEPARTMENT OF AGRICULTURE

Foreign Agricultural Service

Refined Sugar Re-Export Program

AGENCY: Foreign Agricultural Service, USDA.

ACTION: Notice of public meeting.

SUMMARY: The Foreign Agricultural Service (FAS) will conduct a public meeting to review program operations for granting re-export credits to licensed refiners for shipments of sugar to Mexico. The meeting is open to the public.

DATES: FAS will conduct a meeting on Wednesday, February 19, 2003, from 3 p.m. to 5 p.m. in room 5066 of the USDA South Building, 1400 Independence Avenue, SW., Washington, DC. All times are eastern daylight time.

Persons with disabilities who require an alternative means for communication of information (Braille, large print, audiotape, etc.) should contact USDA's Target Center at (202) 720-2600 (voice and TDD).

FOR FURTHER INFORMATION CONTACT: The Import Policies and Programs Division, FAS, (202) 720-2916.

Signed in Washington, DC, on February 10, 2003.
Ellen Terpstra,
Administrator, Foreign Agricultural Service.

[FR Doc. 03-3784 Filed 2-13-03; 8:45 am]

BILLING CODE 3410-10-M